DEPARTMENT OF JUSTICE

Antitrust Division

Notice Pursuant to the National Cooperative Research and Production Act of 1993—International SAE Consortium Ltd.

Notice is hereby given that, on September 21, 2010, pursuant to Section 6(a) of the National Cooperative Research and Production Act of 1993, 15 U.S.C. 4301 et seq. (“the Act”), International SAE Consortium Ltd. (“ISAEC”) has filed written notifications simultaneously with the Attorney General and the Federal Trade Commission disclosing changes in its membership. The notifications were filed for the purpose of extending the Act's provisions limiting the recovery of antitrust plaintiffs to actual damages under specified circumstances. Specifically, Amgen, Inc., Thousand Oaks, CA; AstraZeneca UK Ltd., London, United Kingdom; Cerner Corporation, Kansas City, MO; Clinical Data, Inc., Newton, MA; and Merck Sharp & Dohme Corp., Rahway, NJ, has been added as parties to this venture.

Also, F. Hoffmann-La Roche, INC., Basel, Switzerland; Johnson & Johnson Pharmaceutical Research & Development, LLC, Raritan, NJ; and Sanofi-Aventis, Bridgewater, NJ, have withdrawn as parties to this venture.

No other changes have been made in either the membership or planned activity of the group research project. Membership in this group research project remains open, and ISAEC intends to file additional written notification disclosing all changes in membership.

On September 27, 2007, ISAEC filed its original notification pursuant to Section 6(a) of the Act. The Department of Justice published a notice in the Federal Register pursuant to Section 6(b) of the Act on November 7, 2007(72 FR 62867).

The last notification was filed with the Department of Justice on May 21, 2008. A notice was published in the Federal Register pursuant to Section 6(b) of the Act on June 27, 2008 (73 FR 36571).

Patricia A. Brink,
Deputy Director of Operations, Antitrust Division.

[FR Doc. 2010-26737 Filed 10-25-10; 8:45 am]

BILLING CODE 4410-11-M